DEPARTMENT OF THE INTERIOR

Bureau of Reclamation

[DES03-44]

Ten-Year Water Exchange Agreements With Mendota Pool Group, California

AGENCY: Bureau of Reclamation, Interior.

ACTION: Notice of availability of a draft environmental impact statement (EIS) and request for comment.

SUMMARY: The Department of the Interior, Bureau of Reclamation (Reclamation), has prepared a draft EIS, pursuant to the National Environmental Policy Act (NEPA), to evaluate the proposed exchange of up to 25,000 acre-feet of water per year over a 10-year period with the Mendota Pool Group.

The purpose of the proposed project is to provide water to irrigable lands on Mendota Pool Group properties in Westlands Water District and San Luis Water District to offset substantial reductions in contract water supplies attributable to the Central Valley Project Improvement Act (CVPIA), the Endangered Species Act listings and regulations, and new Bay-Delta water quality rules. This water would thereby enable the Mendota Pool Group farmers to maintain production on historically irrigated lands. The project is not intended to increase the amount of water for farming activities but would replace some of the contract water lost because of increased environmental regulations that restrict water deliveries south of the export pumps at Tracy, California.

Reclamation has obtained public input on the scope of the project and potential alternatives through comment letters and a public scoping meeting. The EIS addresses the comments received.

There are no known Indian Trust Assets or environmental justice issues associated with the proposed action.

DATES: The draft EIS is available for a 60-day public comment period ending on September 29, 2003. Submit written comments on the draft EIS on or before this date at the address provided below.

ADDRESSES: The draft EIS may be obtained by contacting Mr. David Young at the address provided below. The draft EIS is also available on the Internet at http://www.usbr.gov or http://www.entrix.com.

Written comments on the draft EIS should be sent to Mr. David Young, Bureau of Reclamation, South-Central California Area Office, 1243 N Street, Fresno CA 93721-1813; by telephone at 559-487-5127; (TDD 559-487-5933); by e-mail at dkyoung@mp.usbr.gov; or faxed to 559-487-5397.

FOR FURTHER INFORMATION CONTACT: Mr. Young, Environmental Specialist, at the above address or by telephone at 559-487-5127 or TDD 559-487-5933.

SUPPLEMENTARY INFORMATION: The Delta export service area of the Central Valley Project (CVP) has total contractual obligations and delivery losses of approximately 3.45 million acre-feet per year. The theoretical maximum pumping capability of CVP facilities serving this area is approximately 3.09 million acre-feet per year. Available supplies are apportioned under a hierarchy of allocation in which agricultural water service contracts, totaling about 1.85 million acre-feet per year, are provided water only after all other obligations are met. Implementation of the CVPIA (1992), Endangered Species Act (1993-1995) and revised Bay-Delta water quality standards have further reduced pumping capabilities and water supplies available to agricultural contractors. Currently these parties can expect to receive a long-term average supply of about 50 to 55 percent of contract water as compared to a pre-1992 average of 88 to 92 percent.

Alternatives identified and evaluated provide for continued agricultural production, and include the proposed project, construction of new wells, and fallowing of farmland. The project proponents propose to pump up to 269,600 acre-feet of groundwater over the 10-year period from non-CVP wells located adjacent to the Mendota Pool into the Mendota Pool to make up for a portion of the annual shortfall in the contract water to be delivered via the CVP. The actual quantity of water to be pumped would depend on whether the year is classified as wet (0 acre-feet per year), normal (maximum of 31,600 acre-feet per year), or dry (maximum of 40,000 acre-feet per year). Of the total quantity pumped each year, a maximum of 25,000 acre-feet would be exchanged with Reclamation. This water would be made available to Reclamation in the Mendota Pool to offset their existing water contract obligations. In exchange, Reclamation would make an equivalent amount of CVP water available to the members of the Mendota Pool Group for irrigation purposes at Check 13 of the Delta-Mendota Canal. Any quantity of water pumped beyond the 25,000 acre-feet exchanged would be delivered directly to other lands that are presently under irrigation around the Pool. As part of this program, a maximum of 12,000 acre-feet per year of groundwater would be pumped from deep wells (i.e., screened interval greater than 130 feet deep), with the remainder coming from shallow wells (i.e., screened interval less than 130 feet deep). The proposed project will comply with the terms specified in the Settlement Agreement for Mendota Pool Transfer Pumping Program, effective January 1, 2001.

The primary environmental resource issues that are evaluated in the EIS include groundwater levels, groundwater quality, subsidence, surface water quality, and biological resources. Other resource areas evaluated include cost of water, CVP operations, archaeological and cultural resources, Indian Trust assets, environmental justice, socioeconomic resources, land use, transportation, air quality, and noise.

The environmental review was conducted pursuant to NEPA, the Endangered Species Act, and other applicable laws, and analyzes the potential environmental impacts of implementing each of the feasible alternatives. The EIS is based upon previously prepared environmental reports and ongoing monitoring activities. Public input on alternatives and the criteria for evaluation of the alternatives was obtained through the initial scoping meeting and initial comment letters.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment letter. We will make all submissions from organizations or businesses, and from individuals identifying themselves as representatives or officials of organizations or businesses, available for public disclosure in their entirety.

Dated: April 23, 2003.
Frank Michny,
Regional Environmental Officer, Mid-Pacific Region.

[FR Doc. 03-19264 Filed 7-28-03; 8:45 am]

BILLING CODE 4310-MN-P